ENVIRONMENTAL PROTECTION AGENCY

40 CFR Part 52

[EPA-R09-OAR-2008-0379; FRL-8982-4]

Approval and Promulgation of Maintenance Plan for Carbon Monoxide; State of Arizona; Tucson Air Planning Area

AGENCY: Environmental Protection Agency (EPA).

ACTION: Final rule.

SUMMARY: Pursuant to the Clean Air Act, EPA is approving two revisions to the Arizona State Implementation Plan. These revisions include the 2008 Revision to the Carbon Monoxide Limited Maintenance Plan for the Tucson Air Planning Area, submitted on July 10, 2008, and a statutory provision, submitted on June 22, 2009, that extends the life of the State's vehicle emissions inspection program through the end of 2016. EPA is taking this action pursuant to those provisions of the Clean Air Act that obligate the Agency to take action on submittals of revisions to state implementation plans. The effect of this action is to make certain commitments related to maintenance of the carbon monoxide standard in the Tucson Air Planning Area Federally enforceable as part of the Arizona State Implementation Plan.

DATES: Effective Date: This rule is effective on January 20, 2010.

ADDRESSES: EPA has established docket number EPA-R09-OAR-2008-0379 for this action. The index to the docket is available electronically at http://www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Marty Robin, Air Planning Office (AIR-2), EPA Region IX, (415) 972-3961, robin.marty@epa.gov.

SUPPLEMENTARY INFORMATION: Throughout this document, “we,” “us” and “our” refer to EPA.

Table of Contents

I. Proposed Action

II. Public Comment

III. Final Action

IV. Statutory and Executive Order Reviews

I. Proposed Action

On August 5, 2009 (74 FR 39007), EPA proposed to approve, under the Clean Air Act (CAA or “Act”), two revisions to the Arizona State Implementation Plan (SIP) submitted by the Arizona Department of Environmental Quality (ADEQ). First, we proposed to approve the 2008 Revision to the Carbon Monoxide Limited Maintenance Plan for the Tucson Air Planning Area (for 2010) (“2008 CO Maintenance Plan”), submitted by ADEQ on July 10, 2008. Second, we proposed to approve a statutory provision that was submitted by ADEQ on June 22, 2009 that extends the life of the State's vehicle emissions inspection (VEI) program through the end of 2016.

We proposed approval of the 2008 CO Maintenance Plan because we concluded that it includes an acceptable update of the various elements of the initial EPA-approved 1996 CO Maintenance Plan for the Tucson Air Planning Area (TAPA) (including emissions inventory, assurance of adequate monitoring and verification of continued attainment, and contingency provisions), and essentially carries forward all of the control measures and contingency provisions relied upon in the earlier plan.

We also concluded that the TAPA, a former nonclassifiable CO nonattainment area, continues to qualify for the Limited Maintenance Plan (LMP) option and that therefore the 2008 CO Maintenance Plan adequately demonstrates maintenance of the CO NAAQS through documentation of monitoring data showing maximum CO levels less than 85% of the NAAQS and continuation of existing control measures. We believed the 2008 CO Maintenance Plan to be sufficient to provide for maintenance of the CO NAAQS in the TAPA over the second 10-year maintenance period and to thereby satisfy the requirements for such a plan under CAA section 175A(b). Based on our finding that the 2008 CO Maintenance Plan qualifies as an LMP, we proposed to approve the 2008 CO Maintenance Plan for transportation conformity purposes.

In connection with the 2008 CO Maintenance Plan, we proposed to approve a statutory provision, Arizona Revised Statutes (ARS) section 41-3017.01, that extends the life of the State's VEI program (applicable to the TAPA and Phoenix metropolitan areas) until the end of 2016, and that was submitted to EPA as a revision to the Arizona SIP on June 22, 2009, based on our expectation that the Arizona Legislature will extend the VEI program beyond 2016. The VEI program is one of the control measures relied upon by the 2008 CO Maintenance Plan.

Please refer to our August 5, 2009 proposed rule for more information on our evaluation and decision.

II. Public Comment

EPA's proposed action provided a 30-day public comment period. During this period, we received no comments.

III. Final Action

Under sections 110(k) and 175A of the CAA and for the reasons set forth above and in our proposed rule, EPA is approving two revisions of the Arizona SIP submitted by ADEQ. The first, submitted on July 10, 2008, includes the 2008 CO Maintenance Plan for the Tucson Air Planning Area, and the second, submitted on June 22, 2009, includes a statutory provision (ARS section 41-3017.01) extending the life of the VEI program through the end of 2016. Our approval makes the commitments in the maintenance plan, such as the commitment to continue to maintain a monitoring network in accordance with EPA requirements and to implement the contingency provisions, federally enforceable.

We are also approving the 2008 CO Maintenance Plan as an LMP, and under our LMP policy, such an approval means that the Pima Association of Governments (PAG), the Federal Highway Administration, and the Federal Transit Administration will not be required to satisfy the regional emissions analysis for CO under 40 CFR 93.118 and/or 40 CFR 93.119 in determining conformity of transportation plans and programs in the Tucson Air Planning Area.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the State, and EPA notes that it will not impose substantial direct costs on Tribal governments or preempt Tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by February 19, 2010. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Reporting and recordkeeping requirements.

Dated: October 14, 2009.
Laura Yoshii,
Acting Regional Administrator, Region IX.

Part 52, chapter I, title 40 of the Code of Federal Regulations is amended as follows:

PART 52—[AMENDED]

1. The authority citation for Part 52 continues to read as follows:

Authority: 42 U.S.C. 7401 et seq.

Subpart D—Arizona

2. Section 52.120 is amended by adding paragraphs (c)(143) and (c)(144) to read as follows:

§ 52.120 Identification of plan.

* * * * *

(c) * * *

(143) The 2008 Revision to the Carbon Monoxide Limited Maintenance Plan for the Tucson Air Planning Area (for 2010), adopted by the Pima Association of Governments on June 26, 2008, and adopted and submitted by the Arizona Department of Environmental Quality on July 10, 2008, excluding appendix D. (144) Appendix D (Revised) (“Letter from Arizona Department of Environmental Quality re: Vehicle Emissions Inspection Program (VEIP), Revised to include supporting documents authorizing the VEIP from 2009 to 2017 (Chapter 171, Senate Bill 1531 from the 48th Regular Session of the Arizona Legislature and Arizona Revised Statute text A.R.S. 41-3017.01”), adopted as a Supplement to the Carbon Monoxide Limited Maintenance Plan for the Tucson Air Planning Area (for 2010) by the Pima Association of Governments on May 28, 2009, and adopted and submitted by the Arizona Department of Environmental Quality on June 22, 2009.

[FR Doc. E9-30134 Filed 12-18-09; 8:45 am]

BILLING CODE 6560-50-P